DEPARTMENT OF HEALTH AND HUMAN SERVICES

National Institutes of Health

National Eye Institute; Amended Notice of Meeting

Notice is hereby given of a change in the meeting of the National Advisory Eye Council, January 20, 2011, 8:30 a.m. to 12 p.m. for Open session and 1:15 p.m. to adjournment for Closed Session, National Institutes of Health, 5635 Fishers Lane, Terrace Level Conference Center, Bethesda, MD 20892 which was published in the Federal Register on December 8, 2010, Vol. 75; Number 235-76474.

The meeting will be on January 20, 2011, 8:30 a.m. to 11 a.m. Open session and 11 a.m. to adjournment for Closed Session.

Dated: January 11, 2011.
Jennifer S. Spaeth,
Director, Office of Federal Advisory Committee Policy.

[FR Doc. 2011-878 Filed 1-14-11; 8:45 am]

BILLING CODE 4140-01-P